INTERNATIONAL TRADE COMMISSION

[Investigation Nos. 701-TA-549 and 731-TA-1299-1303 (Preliminary)]

Circular Welded Carbon-Quality Steel Pipe From Oman, Pakistan, the Philippines, the United Arab Emirates, and Vietnam

Determinations

On the basis of the record ¹ developed in the subject investigations, the United States International Trade Commission (“Commission”) determines, pursuant to the Tariff Act of 1930 (“the Act”), that there is a reasonable indication that an industry in the United States is materially injured by reason of imports of circular welded carbon-quality steel pipe from Oman, Pakistan, the United Arab Emirates, and Vietnam, provided for in subheadings 7306.19.10, 7306.19.51, 7306.30.10, 7306.30.50, 7306.50.10, and 7306.50.50 of the Harmonized Tariff Schedule of the United States, that are allegedly sold in the United States at less than fair value (“LTFV”), and that are allegedly subsidized by the government of Pakistan.

¹ The record is defined in sec. 207.2(f) of the Commission's Rules of Practice and Procedure (19 CFR 207.2(f)).

The Commission also found that imports of circular welded carbon-quality steel pipe from the Philippines are negligible pursuant to section 771(24) of the Act, and its investigation with regard to imports from this country is thereby terminated pursuant to section 733(a)(1) of the Act.

Commencement of Final Phase Investigations

Pursuant to section 207.18 of the Commission's rules, the Commission also gives notice of the commencement of the final phase of its investigations on circular welded carbon-quality steel pipe from Oman, Pakistan, the United Arab Emirates, and Vietnam. The Commission will issue a final phase notice of scheduling, which will be published in the Federal Register as provided in section 207.21 of the Commission's rules, upon notice from the Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On October 28, 2015, Bull Moose Tube Company (Chesterfield, Missouri); EXLTUBE (N. Kansas City, Missouri); Wheatland Tube, a division of JMC Steel Group (Chicago, Illinois); and Western Tube and Conduit (Long Beach, California) filed a petition with the Commission and Commerce, alleging that an industry in the United States is materially injured and threatened with material injury by reason of imports of circular welded carbon-quality steel pipe from Oman, Pakistan, the Philippines, the United Arab Emirates, and Vietnam, that are alleged to be sold in the United States at LTFV and alleged to be subsidized by the government of Pakistan. Accordingly, effective October 28, 2015, the Commission, pursuant to sections 703(a) and 733(a) of the Tariff Act of 1930 (19 U.S.C. 1671b(a) and 1673b(a)), instituted countervailing duty investigation No. 701-TA-549 and antidumping duty investigation Nos. 731-TA-1299-1303 (Preliminary).

Notice of the institution of the Commission's investigations and of a public conference to be held in connection therewith was given by posting copies of the notice in the Office of the Secretary, U.S. International Trade Commission, Washington, DC, and by publishing the notice in the Federal Register of November 3, 2015 (80 FR 67790). The conference was held in Washington, DC, on November 18, 2015, and all persons who requested the opportunity were permitted to appear in person or by counsel.

The Commission made these determinations pursuant to sections 703(a) and 733(a) of the Tariff Act of 1930 (19 U.S.C. 1671b(a) and 1673b(a)). It completed and filed its determinations in these investigations on December 14, 2015. The views of the Commission are contained in USITC Publication 4586 (December 2015), entitled Circular Welded Carbon-Quality Steel Pipe from Oman, Pakistan, the Philippines, the United Arab Emirates, and Vietnam: Investigation Nos. 701-TA-549 and 731-TA-1299-1303 (Preliminary).

By order of the Commission.
Issued: December 14, 2015.
Lisa R. Barton,
Secretary to the Commission.

[FR Doc. 2015-31810 Filed 12-17-15; 8:45 am]

BILLING CODE 7020-02-P